DEPARTMENT OF HEALTH AND HUMAN SERVICES

HHS Retrospective Review 2013 Request for Information

ACTION: Request for Information.

SUMMARY: The Department of Health and Human Services (HHS) seeks comment from interested parties on existing regulations HHS should consider reviewing in order to streamline or eliminate unnecessary, obsolete, or burdensome regulations or to modify others to increase their effectiveness, efficiency, and flexibility.

DATES: Please submit your suggestions for HHS's retrospective review by October 15, 2013. HHS notes that this request for information is issued solely for information and program-planning purposes and does not obligate the agency to take any further action.

ADDRESSES: You may submit comments using one of the following methods.

Electronic Submissions

To submit retrospective review ideas using the Department's web form, please visit http://www.HHS.gov/RetrospectiveReview.

To submit retrospective review ideas using the Federal eRulemaking Portal, please visit http://www.regulations.gov and follow the instructions for submitting comments.

Written Submissions

Submit written submissions in one of the following ways:

FAX: (202) 690-7203.

Mail/Hand delivery/Courier (for paper, disk, or CD-ROM submissions): 200 Independence Avenue SW., Room 639G, Washington, DC 20201.

FOR FURTHER INFORMATION CONTACT: C'Reda Weeden at (202) 690-5627.

SUPPLEMENTARY INFORMATION: President Obama issued Executive Order 13563, “Improving Regulation and Regulatory Review,” in January 2011, directing all federal agencies to review current regulations to identify ways to streamline or eliminate unnecessary, obsolete, or burdensome regulations. Among other things, Executive Order 13563 instructed agencies to “consider costs and reduce burdens for American businesses and consumers when developing rules; expand opportunities for public participation and public comment; simplify rules; promote freedom of choice; and ensure that regulations are driven by real science.”

On May 10, 2012, the President issued a second Executive Order on retrospective review (Executive Order 13610, “Identifying and Reducing Regulatory Burdens”), which directs agencies “to promote public participation in retrospective review, to modernize our regulatory system, and to institutionalize regular assessment of significant regulations.” This Executive Order calls for agencies to invite public suggestions about regulations in need of retrospective review and appropriate modifications to those regulations; to prioritize those reforms that promise significant quantifiable savings to the American public; and to regularly report to the public on progress and timelines.

In response to Executive Order 13563, the Department of Health and Human Services (HHS) developed and sought comment on its Preliminary Plan for Retrospective Review of Existing Regulations, which identified a preliminary list of regulations that would be appropriate for review. See 76 FR 32330 (June 6, 2011). HHS has made significant progress on its retrospective review activities in the ensuing two years. To date, HHS has published 26 proposed rules and 29 final rules related to retrospective review, in addition to completing substantive review of initiatives where agencies ultimately decided not to make regulatory changes. More information on HHS's retrospective review activities is available at http://www.HHS.gov/RetrospectiveReview.

In addition, the Department has developed a Public Participation Task Force to make Department-wide recommendations for how to increase public participation in the regulatory process. Through the leadership of this task force, the Department has developed a centralized Web page to find information on regulations published by HHS agencies (http://www.HHS.gov/Regulations), established a retrospective review comment form for the public to submit suggestions, and encouraged each HHS agency to develop a public participation plan tailored to the needs of its programmatic mission and interested stakeholder groups.

HHS now seeks suggestions from the public regarding new ideas for our next phase of retrospective review. We welcome your suggestions regarding rules, or types of rules, that the Department should consider reviewing to:

Promote economic growth, innovation, competitiveness, and job creation;

Reduce regulatory and administration burdens;

Achieve better results by modifying, streamlining, expanding, or eliminating rules when the costs or benefits are greater than originally anticipated;

Eliminate rules that are outdated, overtaken by new technology or information, or unnecessary for other reasons; or

Update rules to complement other federal agency rules or international standards where crosscutting collaboration can reduce administration or regulatory burdens.

To learn more about regulatory activity at HHS, please visit http://www.HHS.gov/Regulations.

Dated: September 9, 2013.
Jennifer M. Cannistra,
Executive Secretary.

[FR Doc. 2013-22376 Filed 9-12-13; 8:45 am]

BILLING CODE 4150-03-P